DEPARTMENT OF COMMERCE

International Trade Administration

[C-570-911]

Circular Welded Carbon Quality Steel Pipe From the People's Republic of China: Final Results of the Expedited Third Sunset Review of the Countervailing Duty Order

AGENCY: Enforcement and Compliance, International Trade Administration, Department of Commerce.

SUMMARY: The U.S. Department of Commerce (Commerce) finds that revocation of the countervailing duty (CVD) order on circular welded carbon quality steel pipe from the People's Republic of China (China) would be likely to lead to the continuation or recurrence of countervailable subsidies at the levels indicated in the “Final Results of Sunset Review” section of this notice.

DATES: Applicable September 9, 2024.

FOR FURTHER INFORMATION CONTACT: Christopher Hargett AD/CVD Operations, Office II, Enforcement and Compliance, International Trade Administration, U.S. Department of Commerce, 1401 Constitution Avenue NW, Washington, DC 20230; telephone: (202) 481-4161.

SUPPLEMENTARY INFORMATION:

Background

On July 22, 2008, Commerce published in the Federal Register the CVD order on circular welded carbon quality steel pipe from China.¹ On August 21, 2012, Commerce implemented its revised countervailable subsidy rates pursuant to the findings in the section 129 proceeding of the Uruguay Round Agreements Act.² On May 1, 2024, Commerce published the notice of initiation of the third sunset review of the Order, pursuant to section 751(c) of the Tariff Act of 1930, as amended, (the Act).³

¹ See Circular Welded Carbon Quality Steel Pipe from the People's Republic of China: Notice of Amended Final Affirmative Countervailing Duty Determination and Notice of Countervailing Duty Order, 73 FR 42545 (July 22, 2008) (Order).

² See Implementation of Determinations Under Section 129 of the Uruguay Round Agreements Act: Certain New Pneumatic Off-the-Road Tires; Circular Welded Carbon Quality Steel Pipe; Laminated Woven Sacks; and Light-Walled Rectangular Pipe and Tube from the People's Republic of China, 77 FR 52683 (August 30, 2012) (Section 129 Implementation).

³ See Initiation of Five-Year (Sunset) Reviews, 89 FR 35073 (May 1, 2024).

On May 16, 2024, within the deadline specified in 19 CFR 351.218(d)(1)(i) and section 771(9)(C) of the Act, Commerce received timely notices of intent to participate from Bull Moose Tube Company, Maruichi American Corporation, and Zekelman Industries,⁴ and from Nucor Tubular Products Inc.⁵ (collectively, the domestic interested parties). Each of the companies claimed to be a domestic interested party as producers of a domestic like product (circular welded carbon quality steel pipe) in the United States.

⁴ See Bull Moose Tube Company, Maruichi American Corporation, and Zekelman Industries' Letter, “Notice of Intent to Participate,” dated May 16, 2024.

⁵ See Nucor Tubular Products Inc.'s Letter, “Notice of Intent to Participate in Sunset Review,” dated May 16, 2024.

On May 31, 2024, the domestic interested parties submitted a timely substantive response within the 30-day deadline specified in 19 CFR 351.218(d)(3)(i).⁶ Commerce did not receive a substantive response from the Government of China, a respondent, or any other interested party to this proceeding. As a result, pursuant to section 751(c)(3)(B) of the Act and 19 CFR 351.218(e)(1)(ii)(C)(2), Commerce conducted an expedited (120-day) sunset review of the Order. On July 22, 2024, Commerce tolled certain deadlines in this administrative proceeding by seven days.⁷ The deadline for the final results is now September 5, 2024.

⁶ See Domestic Interested Parties' Letter, “Substantive Response to Notice of Initiation,” dated May 31, 2024.

⁷ See Memorandum, “Tolling of Deadlines for Antidumping and Countervailing Duty Proceedings,” dated July 22, 2024.

On June 21, 2024, Commerce notified the U.S. International Trade Commission that it did not receive an adequate substantive response from respondent interested parties.⁸

⁸ See Commerce's Letter, “Sunset Reviews Initiated on May 1, 2024,” dated May 1, 2024.

Scope of the Order

The scope of this Order covers certain welded carbon quality steel pipes and tubes, of circular cross-section. For a full description of the scope of this Order, see the Issues and Decision Memorandum.⁹

⁹ See Memorandum, “Decision Memorandum for the Final Results of the Expedited Third Sunset Review of the Countervailing Duty Order on Circular Welded Carbon Quality Steel Pipe from the People's Republic of China,” dated concurrently with, and hereby adopted by, this notice (Issues and Decision Memorandum).

Analysis of Comments Received

All issues raised in this sunset review are addressed in the Issues and Decision Memorandum.¹⁰ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

¹⁰ Id.

Final Results of Sunset Review

Pursuant to sections 751(c)(1) and 752(b) of the Act, Commerce determines that revocation of the Order would likely lead to the continuation or recurrence of countervailable subsidies at the rates listed below:

Exporter/manufacturer | Subsidy rate (percent ad valorem)
Weifang East Steel Pipe Co., Ltd. (East Pipe) | 29.83
Zhejiang Kingland Pipeline and Technologies Co., Ltd.; Kingland Group Co., Ltd; Beijing Kingland Century Technologies Co.; Zhejiang Kingland Pipeline Industry Co., Ltd.; and Shanxi Kingland Pipeline Co., Ltd. (collectively, Kingland Companies) | 48.18
Tianjin Shuangjie Steel Pipe Co., Ltd.; Tianjin Shuangjie Steel Pipe Group Co., Ltd.; Tianjin Wa Song Imp. & Exp. Co., Ltd.; and Tianjin Shuanglian Galvanizing Products Co., Ltd. (collectively, Shuangjie) | 620.08
All Others | 39.01

Administrative Protective Order

This notice serves as the only reminder to parties subject to an administrative protective order (APO) of their responsibility concerning the return or destruction of proprietary information disclosed under APO in accordance with 19 CFR 351.305(a). Timely notification of the return or destruction of APO materials or conversion to judicial protective orders is hereby requested. Failure to comply with the regulations and terms of an APO is a violation which is subject to sanction.

Notification to Interested Parties

Commerce is issuing and publishing these final results and this notice in accordance with sections 751(c), 752(b), and 777(i)(1) of the Act and 19 CFR 351.218.

Dated: September 3, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates Likely to Prevail

3. Nature of the Subsidies

VII. Final Results of Expedited Sunset Review

VIII. Recommendation

[FR Doc. 2024-20205 Filed 9-6-24; 8:45 am]

BILLING CODE 3510-DS-P